NUCLEAR REGULATORY COMMSSION

Public Meeting on 10 CFR Part 70; Standard Review Plan

AGENCY: Nuclear Regulatory Commission (NRC).

ACTION: Notice of Meeting.

SUMMARY: NRC will host a public meeting in Rockville, Maryland. The meeting will provide an opportunity for discussion of stakeholder comments on the revised Standard Review Plan (SRP) chapters that were made available during March and April 2000. The revised chapters can be reviewed on the internet at the following website: http://techconf.llnl.gov/cgi-bin/library/=*&library=

PURPOSE: This meeting will provide an opportunity to discuss any comments on the staff's recently revised SRP chapters.

DATES: The meeting is scheduled for Tuesday through Wednesday, April 18 and 19, 2000, from 9 A.M. to 4 P.M. The meeting is open to the public.

ADDRESSES: NRC's Auditorium at Two White Flint North, 11545 Rockville Pike, Rockville, Maryland. Visitor parking around the NRC building is limited; however, the meeting site is located adjacent to the White Flint Station on the Metro Red Line.

FOR FURTHER INFORMATION CONTACT: Theodore S. Sherr, Office of Nuclear Material Safety and Safeguards, U.S. Nuclear Regulatory Commission, Washington, DC 20555, telephone: (301) 415-7190, e-mail tss&commat;nrc.gov.

Dated at Rockville, Maryland this 16th day of March, 2000.
For the Nuclear Regulatory Commission.
Theodore S. Sherr,
Chief, Licensing and International Safeguards Branch, Division of Fuel Cycle Safety and Safeguards, NMSS.

[FR Doc. 00-7102 Filed 3-21-00; 8:45 am]

BILLING CODE 7590-01-P